ENVIRONMENTAL PROTECTION AGENCY

[Regional Docket Nos. V-2006-4, FRL-8520-2]

Clean Air Act Operating Permit Program; Petition for Objection to State Operating Permit for Wisconsin Public Service Corporation—Weston Generating Station

AGENCY: Environmental Protection Agency (EPA).

ACTION: Notice of final order on petition to object to Clean Air Act operating permit.

SUMMARY: This document announces that the EPA Administrator has responded to a petition asking EPA to object to a Clean Air Act (Act) operating permit issued by the Wisconsin Department of Natural Resources. Specifically, the Administrator granted in part and denied in part the petition submitted by the Sierra Club to object to the operating permit for Wisconsin Public Service Corporation—Weston Generating Station (Weston).

Pursuant to section 505(b)(2) of the Act, a Petitioner may seek in the United States Court of Appeals for the appropriate circuit judicial review of those portions of a petition which EPA denied. Any petition for review shall be filed within 60 days from the date this notice appears in the Federal Register, pursuant to section 307 of the Act.

ADDRESSES: You may review copies of the final order, the petition, and other supporting information at the EPA, Region 5 Office, 77 West Jackson Boulevard, Chicago, Illinois 60604. If you wish to examine these documents, you should make an appointment at least 24 hours before visiting day. Additionally, the final order for the Weston petition is available electronically at: http://yosemite.epa.gov/r5/ardcorre.nsf/permits.

FOR FURTHER INFORMATION CONTACT: Pamela Blakley, Chief, Air Permits Section, Air Programs Branch, Air and Radiation Division, EPA, Region 5, 77 West Jackson Boulevard, Chicago, Illinois 60604, telephone (312) 886-4447.

SUPPLEMENTARY INFORMATION: The Act affords EPA a 45-day period to review, and object to as appropriate, operating permits proposed by state permitting authorities. Section 505(b)(2) of the Act authorizes any person to petition the EPA Administrator within 60 days after the expiration of the EPA review period to object to a state operating permit if EPA has not done so. A petition must be based only on objections to the permit that were raised with reasonable specificity during the public comment period provided by the state, unless the petitioner demonstrates that it was impracticable to raise issues during the comment period, or the grounds for the issues arose after this period.

On November 20, 2006, EPA received a petition from the Sierra Club requesting that EPA object to the Title V operating permit for Weston. The petition alleged that: (1) The permit limits evidence that can be used by citizens to demonstrate noncompliance; (2) the permit omits operating limitations applicable to Unit 3; (3) the permit fails to include a compliance schedule for the plant's continuing violations of the heat and energy limits in the prevention of significant deterioration (“PSD”) permit for Unit 3; (4) the permit contains insufficient monitoring for particulate matter emissions from Units 1, 2, and 3; (5) the permit fails to require sufficient monitoring to ensure compliance with visible emission limits on sources B11, B12, and B13; (6) revisions to the permit constitute a change in the method of operation without going through PSD permitting; (7) Units 1 and 2 underwent major modifications without PSD permit review; and (8) Weston Generating Station has unaddressed opacity violations.

On December 19, 2007, the Administrator issued an order granting in part and denying in part the petition. The order explains the reasons behind EPA's conclusion.

Dated: January 11, 2008.
Gary Gulezian,
Acting Regional Administrator, Region 5.

[FR Doc. E8-1221 Filed 1-23-08; 8:45 am]

BILLING CODE 6560-50-P